DEPARTMENT OF EDUCATION

Borrower Defenses Against Loan Repayment; Comment Period Correction

AGENCY: Department of Education.

ACTION: Correction Notice.

SUMMARY: On June 10, 2015 the U.S. Department of Education published an Emergency Notice in the Federal Register Page 32944, Column 3; Page 32945, Column 1 and 2 for an information collection entitled, “Borrower Defenses Against Loan Repayment”. ED is requesting a correction to include a 60-day comment period for public comment for the regular information collection. Interested persons are invited to submit comments on or before August 17, 2015. Comments submitted in response to this notice should be submitted electronically through the Federal eRulemaking Portal at http://www.regulations.gov by selecting Docket ID number ED-2015-ICCD-0076 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

The Acting Director, Information Collection Clearance Division, Privacy, Information and Records Management Services, Office of Management, hereby issues a correction notice as required by the Paperwork Reduction Act of 1995.

Kate Mullan,
Acting Director, Information Collection Clearance Division, Privacy, Information and Records Management Services, Office of Management.

[FR Doc. 2015-14701 Filed 6-15-15; 8:45 am]

BILLING CODE 4000-01-P